ENVIRONMENTAL PROTECTION AGENCY

[EPA-HQ-OECA-2006-0431; FRL-8254-4]

Agency Information Collection Activities; Submission to OMB for Review and Approval; Comment Request; NESHAP for Lime Manufacturing (Renewal) EPA ICR Number 2072.03, OMB Control Number 2060-0544

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on January 31, 2007. Under OMB regulations, the Agency may continue to conduct or sponsor the collection of information while this submission is pending at OMB. This ICR describes the nature of the information collection and its estimated burden and cost.

DATES: Additional comments may be submitted on or before January 11, 2007.

ADDRESSES: Submit your comments, referencing docket ID number EPA-HQ-OECA-2006-0431, to (1) EPA online using http://www.regulations.gov (our preferred method), by e-mail to docket.oeca@epa.gov, or by mail to: EPA Docket Center (EPA/DC), Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, Mail Code 2223A, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On June 21, 2006 (71 FR 35652), EPA sought comments on this ICR pursuant to 5 CFR 1320.8(d). EPA received no comments.

EPA has established a public docket for this ICR under Docket ID Number EPA-HQ-OECA-2006-0431, which is available for online viewing at http://www.regulations.gov, or in person viewing at the Enforcement and Compliance Docket and Information Center in the EPA Docket Center (EPA/DC), EPA West, Room 3334, 1301 Constitution Avenue, NW.,Washington, DC. The EPA Docket Center Public Reading Room is open from 8:30 a.m. to 4:30 p.m., Monday through Friday, excluding legal holidays. The telephone number for the Reading Room is (202) 566-1744, and the telephone number for the Enforcement and Compliance Docket Center is (202) 566-1927.

Use EPA's electronic docket and comment system at http://www.epa.gov, to submit or view public comments, access the index listing of the contents of the docket, and to access those documents in the docket that are available electronically. Once in the system, select docket search then key in the docket ID number identified above. Please note that EPA's policy is that public comments, whether submitted electronically or in paper, will be made available for public viewing at http://www.regulations.gov as EPA receives them and without change, unless the comment contains copyrighted material, Confidential Business Information (CBI), or other information whose public disclosure is restricted by statute. For further information about the electronic docket, go to http://www.regulations.gov.

Title: NESHAP for Lime Manufacturing (Renewal).

Numbers: EPA ICR Number 2072.03; OMB Control Number 2060-0544.

ICR Status: This ICR is scheduled to expire on January 31, 2007. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: These standards apply to owners or operators of each existing and new lime manufacturing plant (LMP) that emits or has the potential to emit any single hazardous air pollutant (HAP) at a rate of 9.07 megagrams (10 tons) or more per year or any combination of HAP at a rate of 22.68 megagrams (25 tons) or more per year from all emission sources at the plant site. This subpart applies to each existing and new lime kilns and their associated coolers, and processed stone handling operations systems located at a LMP that is a major source. Owners or operators of such facilities must provide EPA, or the delegated state regulatory authority, with initial notifications, performance tests, and periodic reports. They are also required to maintain records of the occurrence and duration of any startup, shutdown, or malfunction (SSM) in the operation of an affected facility, or any period during which the monitoring system is inoperative. The responses to this information collection are mandatory under Clean Air Act section 112 and 40 CFR part 63, subpart AAAAA.

An agency may not conduct or sponsor, and a person is not required to respond to, a collection of information unless it displays a currently valid OMB Control Number. The OMB control numbers for EPA's regulations are listed in 40 CFR part 9 and 48 CFR chapter 15, and are identified on the form and/or instrument, if applicable.

Burden Statement: The annual public reporting and recordkeeping burden for this collection of information are estimated to average approximately 99 hour per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Lime Manufacturing.

Estimated Number of Respondents: 44.

Frequency of Response: Initially, and semiannually.

Estimated Total Annual Hour Burden: 10,212.

Estimated Total Costs: $1,040,590, which includes $3,330 annualized Capital Start Up Costs, $170,624 annualized Operations & Maintenance (O & M) costs, and $866,636 annualized labor costs.

Changes in the Estimates: There is an increase of 2,446 hours in the total estimated burden currently identified in the OMB Inventory of Approved ICR Burdens. The increase in burden is due to the fact that initial compliance has been achieved and the initial costs to comply are different from the costs to comply continuously with the standard.

This increase is not due to any program change. Within the past three years, the respondents completed those activities required to achieve initial compliance. Such activities are more burdensome than the burden associated with the rule requirements for continuing compliance as addressed by this ICR.

Dated: December 4, 2006.
Richard T. Westlund,
Acting Director, Collection Strategies Division.

[FR Doc. E6-21103 Filed 12-11-06; 8:45 am]

BILLING CODE 6560-50-P